DEPARTMENT OF LABOR

Employment and Training Administration

[TA-W-72,273]

Top Eastern Drill Formerly Known as Kennametal, Inc. and Greenfield Industries, Inc. Including On-Site Leased Workers From Mau, Manpower and Kelly Services Including Workers Whose Wages Are Reported to Phillips Staffing, Evans, GA; Amended Certification Regarding Eligibility To Apply for Worker Adjustment Assistance

In accordance with Section 223 of the Trade Act of 1974, as amended (“Act”), 19 U.S.C. 2273, the Department of Labor issued a Certification of Eligibility to Apply for Worker Adjustment Assistance on October 6, 2009, applicable to workers of Top Eastern Drill, formerly known as Kennametal, Inc., and Greenfield Industries, Inc., including on-site leased workers from Mau, Manpower and Kelly Services, Evans, Georgia. The notice will be published soon in the Federal Register.

At the request of the State agency, the Department reviewed the certification for workers of the subject firm. The workers are engaged in activities related to the production of drill bits and other hole making and threading tools.

Information shows that some workers separated from employment at the Evans, Georgia location of the subject firm had their wages reported under a separated unemployment insurance (UI) tax account for Phillips Staffing.

Accordingly, the Department is amending this certification to properly reflect this matter.

The intent of the Department's certification is to include all workers of the subject firm who were adversely affected by the shift in production of drill bits and other hole making and threading tools to China and Japan.

The amended notice applicable to TA-W-72,273 is hereby issued as follows:

All workers of Top Eastern Drill, formerly known as Kennametal, Inc. and Greenfield Industries, Inc., including on-site leased workers from MAU, Manpower and Kelly Services, including workers whose (UI) wages are reported to Phillips Staffing, Evans, Georgia, who became totally or partially separated from employment on or after September 1, 2008 through October 6, 2011, and all workers in the group threatened with total or partial separation from employment on date of certification through two years from the date of certification, are eligible to apply for adjustment assistance under Chapter 2 of Title II of the Trade Act of 1974, as amended.

Signed at Washington, DC, this 8th day of December 2009.
Elliott S. Kushner,
Certifying Officer, Division of Trade Adjustment Assistance.

[FR Doc. E9-30244 Filed 12-18-09; 8:45 am]

BILLING CODE 4510-FN-P